FEDERAL COMMUNICATIONS COMMISSION

Sunshine Act Meeting: FCC To Hold Open Commission Meeting

Thursday, May 9, 2013.

The Federal Communications Commission will hold an Open Meeting on the subjects listed below on Thursday, May 9, 2013. The meeting is scheduled to commence at 10:30 a.m. in Room TW-C305, at 445 12th Street SW., Washington, DC

Item No. | Bureau | Subject
1 | INTERNATIONAL, WIRELESS TELE-COMMUNICATIONS & OFFICE OF ENGINEERING & TECHNOLOGY | TITLE: Expanding Access to Broadband and Encouraging Innovation through Establishment of an Air-Ground Mobile Broadband Secondary Service for Passengers Aboard Aircraft in the 14.0-14.5 GHz Band (RM-11640 and 11429). SUMMARY: The Commission will consider a Notice of Proposed Rulemaking seeking to improve consumer access to broadband aboard aircraft and encourage innovation through establishment of an Air-Ground Mobile Broadband secondary service in the 14.0-14.5 GHz band, while ensuring that existing users are protected from interference.
2 | OFFICE OF ENGINEERING & TECHNOLOGY | TITLE: Amendment of Part 2 of the Commission's Rules for Federal Earth Stations Communicating with Non-Federal Fixed Satellite Service Space Stations; Federal Space Station Use of the 399.9-400.05 MHz band; and Allocation of Spectrum for Non-Federal Space Launch Operations (RM-11341). SUMMARY: The Commission will consider a Notice of Proposed Rulemaking and Notice of Inquiry to ease access to spectrum for commercial space launch operators and better facilitate federal government use of commercial satellite services, and seek comment on streamlining processes, eliminating unnecessary burdens, and identifying future communication and spectrum needs of the commercial space sector.
3 | PUBLIC SAFETY AND HOMELAND SECURITY | TITLE: Facilitating the Deployment of Text-to-911 and Other Next Generation 911 Applications; Framework for Next Generation 911 Deployment (PS Docket Nos. 11-153; 10-255). SUMMARY: The Commission will consider a Report and Order requiring CMRS providers and providers of interconnected text messaging services to provide consumers with an automatic bounce-back message if the consumer attempts to text 911 where that capability is unavailable.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov<mailto:fcc504@fcc.gov> or call the Consumer & Governmental Affairs Bureau at 202-418-0530 (voice), 202-418-0432 (tty).

Additional information concerning this meeting may be obtained from Meribeth McCarrick, Office of Media Relations, (202) 418-0500; TTY 1-888-835-5322. Audio/Video coverage of the meeting will be broadcast live with open captioning over the Internet from the FCC Live Web page at www.fcc.gov/live<http://www.fcc.gov/live>.

For a fee this meeting can be viewed live over George Mason University's Capitol Connection. The Capitol Connection also will carry the meeting live via the Internet. To purchase these services call (703) 993-3100 or go to www.capitolconnection.gmu.edu<http://www.capitolconnection.gmu.edu/>.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.
May 2, 2013.
Marlene H. Dortch,
Secretary, Office of the Secretary, Office of Managing Director.

[FR Doc. 2013-11498 Filed 5-10-13; 11:15 am]

BILLING CODE 6712-01-P